DEPARTMENT OF THE INTERIOR

National Park Service

Native American Graves Protection and Repatriation Review Committee: Findings

AGENCY: National Park Service, Department of the Interior.

ACTION: NAGPRA Review Committee Advisory Findings and Recommendations Regarding Human Remains and Associated Funerary Objects in the Control of Chaco Culture National Historical Park.

After full and careful consideration of the information and statements submitted and presented by representatives of the Hopi Tribe and Chaco Culture National Historical Park at its meetings on May 3-5, 1999 and November 18-20, 1999, the Native American Graves Protection and Repatriation Review Committee (Review Committee) considers that:

1. On May 12, 1999, Chaco Culture National Historical Park published a Notice of Inventory Completion regarding 265 Native American human remains and 743 funerary objects. The park determined the human remains and funerary objects to be culturally affiliated with the Hopi Tribe of Arizona; Navajo Nation of Arizona, New Mexico, and Utah; Pueblo of Acoma, New Mexico; Pueblo of Cochiti, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and the Zuni Tribe of Zuni Reservation, New Mexico.

2. The Hopi Tribe disputed the park's determinations of cultural affiliation, arguing that:

a. Proper tribe-by-tribe consultation was not performed by the park;

b. The park did not apply a rigorous standard in weighing the evidence in making determinations of cultural affiliation; and

c. Determinations of cultural affiliation must be made on an object-by-object basis, rather than globally for the park as a whole.

3. Chaco Culture National Historical Park answered these objections by pointing to a nine-year record of tribal consultations. The park also argued that there is cultural continuity within Chaco Canyon dating to the Archaic Period (pre 1 AD) and that as such, there was no value in assessing cultural affiliation for each site individually. The park defended its determinations of cultural affiliation on the grounds that a broad range of both scientific and traditional evidence had been used. It was also noted that given the complex history of Chaco Canyon, and the strong traditional attachment that the place held for many tribes, it was not surprising that many groups should be considered culturally affiliated.

On hearing all of the evidence presented, the Review Committee finds that the complaints made by the Hopi Tribe have merit. While the Review Committee recognizes the efforts made in the area of tribal consultation, tribes were not given adequate opportunity to consult on a one-to-one basis and to make their concerns known outside of a public forum. The Review Committee also agrees with the Hopi Tribe that more is needed in the evaluating and weighing of the evidence for establishing cultural affiliation. Rather than a rigorous determination of cultural affiliation, the park seems to have applied a much looser criterion of cultural relationship to geographical place, as a basis for determining culturally affiliated tribes. The park's global approach to the assessment Chaco archeological sites, effectively precluded any realistic assessment of cultural affiliation based on specific site features, dates, or cultural practices. Likewise, sites with virtually no contextual information were treated as culturally affiliated. The global approach to site assessment and affiliation resulted in a determination of cultural affiliation for all Chaco Canyon remains with all groups expressing cultural relationship to the region.

It is the recommendation of the Review Committee that the Chaco Culture National Historical Park withdraw its published Notice if Inventory Completion and reassess its determination of cultural affiliation. The Review Committee recommends that this reassessment specifically consider the following issues:

1. Determination of cultural affiliation should be made on a site-by-site basis, assessing each site based on the specific data available;

2. While collective consultation can be useful, it should not be used in lieu of individual tribal consultation when requested by an Indian tribe;

3. A proper determination of cultural affiliation necessarily requires the critical evaluation and careful weighing of all available evidence. This weighing should emphasize group identity, time period, specific cultural practices, and traceable cultural continuity;

4. The park should take steps to ensure the objective character of the determinations of cultural affiliation of the human remains and other cultural items in the control of the park. The process the park follows in making cultural affiliation determinations also must be seen by others to have been objective. For example, the Review Committee believes that the park should engage a qualified independent contractor to re-evaluate the information from the Chaco sites and offer specific recommendation for cultural affiliation.

Review Committee member James Bradley did not participate in the Review Committee's deliberations nor in the formulation of these advisory findings and recommendations.

These advisory findings and recommendations do not necessarily represent the views of the National Park Service or the Secretary of the Interior. The National Park Service and the Secretary of the Interior have not taken a position on these matters.

Dated: January 10, 2000.
Martin Sullivan,
Chair, Native American Graves Protection and Repatriation Review Committee.

[FR Doc. 00-3053 Filed 2-9-00; 8:45 am]

BILLING CODE 4310-70-F